DEPARTMENT OF HEALTH AND HUMAN SERVICES

National Institutes of Health

Center for Scientific Review; Amended Notice of Meeting

Notice is hereby given of a change in the meeting of the Prokaryotic Cell and Molecular Biology Study Section, October 25, 2013, 08:00 a.m. to October 25, 2013, 06:00 p.m., Avenue Hotel Chicago, 160 E. Huron Street, Chicago, IL 60611 which was published in the Federal Register on October 01, 2013, 78 FR 60296.

The meeting will be held at the National Institutes of Health, 6701 Rockledge Drive, Bethesda, MD 20892 on December 17, 2013, starting at 10:00 a.m. and ending at 07:00 p.m. The meeting is closed to the public.

Dated: October 23, 2013.
David Clary,
Program Analyst, Office of Federal Advisory Committee Policy.

[FR Doc. 2013-25471 Filed 10-28-13; 8:45 am]

BILLING CODE 4140-01-P